NUCLEAR REGULATORY COMMISSION

[Docket No. 030-34325]

Notice of Environmental Assessment Related to the Approval for the Department of Veterans Affairs To Issue an Amendment to a Materials Permit for the Unrestricted Release of an Illiana Health Care System Facility in Danville, IL

AGENCY: Nuclear Regulatory Commission.

ACTION: Issuance of environmental assessment and finding of no significant impact for license amendment.

FOR FURTHER INFORMATION CONTACT: William Snell, Senior Health Physicist, Decommissioning Branch, Division of Nuclear Materials Safety, Region III, U.S. Nuclear Regulatory Commission, 2443 Warrenville Road, Lisle, Illinois 60532; telephone: (630) 829-9871; fax number: (630) 515-1259; or by e-mail at wgs@nrc.gov.

SUPPLEMENTARY INFORMATION: The U.S. Nuclear Regulatory Commission (NRC) is considering allowing the Department of Veterans Affairs (DVA) to issue an amendment to a materials permit in accordance with NRC Byproduct Materials License No. 03-23853-01VA. The NRC approval would allow the DVA to authorize the unrestricted release of Building 13 of the DVA's Illiana Health Care System facility at 1900 East Main Street in Danville, Illinois. The NRC has prepared an Environmental Assessment in support of this action in accordance with the requirements of 10 CFR Part 51. Based on the Environmental Assessment, the NRC has determined that a Finding of No Significant Impact is appropriate. The permit amendment by the DVA will be allowed following the publication of this Environmental Assessment and Finding of No Significant Impact.

I. Environmental Assessment

Identification of Proposed Action

The proposed action would approve DVA's request to issue an amendment to a materials permit to release Building 13 of the DVA's Danville, Illinois facility for unrestricted use in accordance with 10 CFR Part 20, Subpart E. The proposed action is in accordance with the DVA's request to the U.S. Nuclear Regulatory Commission (NRC) on November 18, 2005 (ADAMS Accession No. ML053260120), to approve the release of the facility for unrestricted use, and is consistent with the current NRC policy to review all DVA permittee requests for the release of buildings for unrestricted use where radioactive materials with a half-life greater than 120 days were used. The DVA identified two isotopes of concern with half-lives greater than 120 days that it used in Building 13 of the Danville, Illinois facility: hydrogen-3 and carbon-14. The DVA has been authorized to use byproduct material for medical diagnosis, therapy, and research at Building 13 of the Danville, Illinois facility since 1975.

The DVA conducted surveys of the facility and provided this information to the NRC to demonstrate that the radiological conditions at Building 13 of the Danville, Illinois facility are consistent with radiological criteria for unrestricted use in 10 CFR Part 20, Subpart E. No radiological remediation activities are required to complete the proposed action.

Need for the Proposed Action

The DVA is requesting approval of this permitting action because it no longer plans to use Building 13 of the Danville, Illinois facility for NRC-permitted activities. The NRC is fulfilling its responsibilities under the Atomic Energy Act to make a decision on the proposed action for decommissioning that ensures that residual radioactivity is reduced to a level that is protective of the public health and safety and the environment, and allows the DVA to authorize the Danville, Illinois facility to be released for unrestricted use.

Environmental Impacts of the Proposed Action

The NRC staff reviewed the information provided and surveys performed by the DVA to demonstrate that the release of Building 13 of DVA's Illiana Health Care System facility at 1900 East Main Street in Danville, Illinois, is consistent with the radiological criteria for unrestricted use specified in 10 CFR 20.1402. Based on its review, the staff determined that there were no radiological impacts associated with the proposed action because no radiological remediation activities were required to complete the proposed action, and that the radiological criteria for unrestricted use in § 20.1402 have been met.

Based on its review, the staff determined that the radiological environmental impacts from the proposed action for Building 13 of the DVA Illiana Health Care System facility are bounded by the “Generic Environmental Impact Statement in Support of Rulemaking on Radiological Criteria for License Termination of NRC-Licensed Nuclear Facilities” (NUREG-1496). Additionally, no non-radiological or cumulative impacts were identified. Therefore, the NRC has determined that the proposed action will not have a significant effect on the quality of the human environment.

Alternatives to the Proposed Action

The only alternative to the proposed action of releasing Building 13 of the DVA's Illiana Health Care System facility for unrestricted use is to take no action. Under the no-action alternative, Building 13 of the DVA's Danville, Illinois facility would remain a location of use on the Illiana Permit under the DVA's NRC license and would not be released for unrestricted use. Denial of the license amendment request would result in no change to current conditions at the DVA facility. The no-action alternative is not acceptable because it is inconsistent with 10 CFR 30.36, which requires licensees who have ceased licensed activities to begin decommissioning activities or submit a decommissioning plan, which upon approval, will be used to conduct decommissioning activities. This alternative also would impose an unnecessary regulatory burden and limit potential benefits from the future use of Building 13 of the DVA's Illiana Health Care System facility.

Conclusion

The NRC staff concluded that the proposed action is consistent with the NRC unrestricted release criteria specified in 10 CFR 20.1402. Because the proposed action will not significantly impact the quality of the human environment, the NRC staff concludes that the proposed action is the preferred alternative.

Agencies and Persons Consulted

The NRC staff has determined that the proposed action will not affect listed species or critical habitats. Therefore, no further consultation is required under Section 7 of the Endangered Species Act. Likewise, the NRC staff has determined that the proposed action is not a type of activity that has potential to cause effect on historic properties. Therefore, consultation under Section 106 of the National Historic Preservation Act is not required.

The NRC consulted with the Illinois Emergency Management Agency on the action. The Illinois Emergency Management Agency, Division of Nuclear Safety, Radioactive Materials Section, was provided the draft EA for comment on February 3, 2006. Mr. Daren Perrero, Health Physicist, with the Radioactive Materials Section, responded to the NRC by e-mail on February 8, 2006, indicating that the State had no comments regarding the NRC Environmental Assessment for the release of the DVA's Danville, Illinois facility.

II. Finding of No Significant Impact

On the basis of the EA in support of the proposal to allow the DVA to release the site for unrestricted use, the NRC has determined that the proposed action will not have a significant effect on the quality of the human environment. Thus, the NRC has not prepared an environmental impact statement for the proposed action.

Further Information

Documents related to this action, including the application for amendment and supporting documentation, are available electronically at the NRC's Electronic Reading Room at http://www.nrc.gov/reading-rm/adams.html. From this site, you can access the NRC's Agencywide Document Access and Management System (ADAMS), which provides text and image files of NRC's public documents. If you do not have access to ADAMS, or if there are problems in accessing the documents located in ADAMS, contact the NRC Public Document Room (PDR) Reference staff at 1-800-397-4209, 301-415-4737, or by e-mail to pdr@nrc.gov. The documents and ADAMS accession numbers related to this notice are:

1. E. Lynn McGuire, Department of Veterans Affairs, letter to U.S. Nuclear Regulatory Commission, November 18, 2005 (ADAMS Accession No. ML053260120).

2. U.S. Nuclear Regulatory Commission, “Environmental Review Guidance for Licensing Actions Associated with NMSS Programs,” NUREG-1748, August 2003.

3. U.S. Nuclear Regulatory Commission, “Generic Environmental Impact Statement in Support of Rulemaking on Radiological Criteria for License Termination of NRC-Licensed Nuclear Facilities,” NUREG-1496, August 1994.

4. NRC, NUREG-1757, “Consolidated NMSS Decommissioning Guidance,” Volumes 1-3, September 2003.

Documents may also be viewed electronically on the public computers located at the NRC's PDR, O 1 F21, One White Flint North, 11555 Rockville Pike, Rockville, MD 20852. The PDR reproduction contractor will copy documents for a fee.

Dated at Lisle, Illinois, this 9th day of February, 2006.
For the Nuclear Regulatory Commission.
Jamnes L. Cameron,
Chief, Decommissioning Branch, Division of Nuclear Materials Safety, Region III.

[FR Doc. E6-2327 Filed 2-16-06; 8:45 am]

BILLING CODE 7590-01-P